DEPARTMENT OF ENERGY

Federal Energy Regulatory Commission

[IC04-555-000, FERC-555]

Commission Information Collection Activities, Proposed Collection; Comment Request; Extension

May 4, 2004.

AGENCY: Federal Energy Regulatory Commission, DoE.

ACTION: Notice.

SUMMARY: In compliance with the requirements of Section 3506(c)(2)(a) of the Paperwork Reduction Act of 1995, 44 U.S.C. 3506(c)(2)(A), the Federal Energy Regulatory Commission (Commission) is soliciting public comment on the specific aspects of the information collection described below.

DATES: Comments on the collection of information are due by July 6, 2004.

ADDRESSES: Copies of the proposed collection of information can be obtained from Michael Miller, Office of the Executive Director, ED-30, 888 First Street NE., Washington, DC 20426. Comments may be filed either in paper format or electronically. Those persons filing electronically do not need to make a paper filing. For paper filings, the original and 14 copies of such comments should be submitted to the Office of the Secretary, Federal Energy Regulatory Commission, 888 First Street, NE., Washington, DC 20426 and should refer to Docket No. IC04-555-000.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's E-mail address upon receipt of comments. User assistance for electronic filings is available at 202-502-8258 or by e-mail to efiling@ferc.gov. Comments should not be submitted to the e-mail address.

All comments are available for review at the Commission or may be viewed on the Commission's Web site at http://www.ferc.gov, using the ‘eLibrary’ link. Enter the docket number excluding the last three digits in the docket number field to access the document. For assistance, contact FERCOnlineSupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC-555 “Records Retention Requirements” (OMB No. 1902-00098) is used by the Commission to implement the statutory provisions of Sections 301, 304 and 309 of the Federal Power Act (FPA) (16 U.S.C. 825, 825c and 825h), Sections 8, 10 and 16 of the Natural Gas Act (NGA) (15 U.S.C. 717-717w), and Section 20 of the Interstate Commerce Act (ICA, 49 U.S.C. 20).

The regulations for preservation of records establish retention periods, necessary guidelines and requirements to sustain retention of applicable records for the regulated public utilities, natural gas and oil pipeline companies subject to FERC's jurisdiction. These records will be used by the regulated companies as the basis for their required rate filings and reports for the Commission. In addition, the records will be used by the Commission's audit staff during compliance reviews, by enforcement staff during investigations and for special analyses as deemed necessary by the Commission. The records retained by jurisdictional companies as directed by the Commission are the result of a mandatory requirement.

On January 8, 1999 the Commission issued AI99-2-000, an Accounting Issuance providing guidance on records storage media. Specifically, FERC gave each jurisdictional company the flexibility to select its own storage media. The storage media selected must have a life expectancy equal to the applicable record period unless the quality of the data transferred from one media to another with no loss of data would exceed the record period.

On January 27, 2000, FERC issued a final rule amending its records retention regulations for public utilities and licensees, natural gas and oil pipeline companies. These changes included revising the general instructions, shortening various records retention periods. The final rule's objective was to reduce or eliminate burdensome and unnecessary regulatory requirements. FERC anticipated a reduction of 679,800 hours. OMB questioned FERC's estimates of the anticipated reduction and so the existing estimates 1,236,000 for 515 respondents remained on OMB's inventory. (Using these existing figures, the total hours per respondent for recordkeeping purposes equals 2,400 hours.)

It has been over three years since Order No. 617 took effect on January 1, 2001 and there has been sufficient time for jurisdictional companies to implement the final rule's provisions. Therefore, in responding to this notice, FERC is interested in knowing if the jurisdictional companies have obtained substantial reductions in the recordkeeping burden for maintaining their records under the revised retention periods. In addition, the Commission is interested in learning if and what savings were achieved by jurisdictional companies by freeing up storage space formerly used for retaining records. The Commission implements these filing requirements in the Code of Federal Regulations (CFR) under 18 CFR Parts 125, 225 and 356.

Action: The Commission is requesting a three-year approval of these recordkeeping requirements, with no changes to the existing collection of data.

Burden Statement: Public reporting burden for this collection is estimated as:

Number of respondents annually | Number of responses per respondent * | Average burden hours per response | Total annual burden hours
(1) | (2) | (3) | (1)x(2)x(3)
515 | 1 | ¹ 2,402 | ² 1,236,896
¹ Rounded off.
² includes documentation recordkeeping requirements of Order No. 634.

Estimated cost burden to respondents: 1,236,896 hours/2,080 hours per year × $107,185 per year = $63,738,797. The cost per respondent is equal to $123,765.

The reporting burden includes the total time, effort, or financial resources expended to generate, maintain, retain, disclose, or provide the information including:

Reviewing instructions; (2) developing, acquiring, installing, and utilizing technology and systems for the purposes of collecting, validating, verifying, processing, maintaining, disclosing and providing information; (3) adjusting the existing ways to comply with any previously applicable instructions and requirements;

(4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond.

Magalie R. Salas,
Secretary.

[FR Doc. E4-1108 Filed 5-12-04; 8:45 am]

BILLING CODE 6717-01-P